DEPARTMENT OF ENERGY

Federal Energy Regulatory Commission

[Docket No. CP16-18-000]

Magnum Gas Storage, LLC; Notice of Application for Amendment

Take notice that on November 16, 2015, Magnum Gas Storage, LLC (Magnum), 3165 E. Millrock Dr., #330, Holladay, Utah 84121, filed an application pursuant to section 7(c) of the Natural Gas Act (NGA) and Parts 157 and 284 of the Commission's Regulations requesting that the Commission approve an amendment (Amendment) to the certificate of public convenience and necessity issued to the Magnum in Docket No. CP10-22-000 on March 17, 2011 (March 17 Order). The March 17 Order authorized Magnum to construct facilities in Millard, Juab, and Utah Counties, Utah consisting of four salt caverns, various related aboveground supporting facilities and a 61.6-mile long, 36-inch diameter, header pipeline extending from the storage site to points of interconnection with existing interstate gas transmission facilities owned by Kern River Gas Transmission Company and Questar Pipeline Company near Goshen, Utah.

The Amendment requested by Magnum would authorize the relocation of Magnum's approved natural gas storage caverns and associated surface facilities within the previously analyzed Project area, grant authority to Magnum to provide a new firm wheeling transportation service under market-based rates, and extend the time by which the facilities must be constructed and placed in service. The filing may be viewed on the Web at http://www.ferc.gov using the “eLibrary” link. Enter the docket number, excluding the last three digits, in the docket number field to access the document. For assistance, contact FERC at FERCOnlineSupport@ferc.gov or call toll-free, (886) 208-3676 or TYY, (202) 502-8659.

Any questions concerning this application should be directed to Tiffany A. James, Vice President, Project Development and Government Affairs, Magnum Gas Storage, LLC, 3165 E. Millrock Dr., #330, Holladay, Utah 84121, telephone: (801) 993-7001, email: tjames@westernenergyhub.com, or J. Gordon Pennington, Attorney at Law, Georgetown Place, 1101 30th Street NW., Suite 500, Washington, DC 20007, phone: (202) 625-4330, email: Pennington5@verizon.net.

Pursuant to section 157.9 of the Commission's rules, 18 CFR 157.9, within 90 days of this Notice the Commission staff will either: complete its environmental assessment (EA) and place it into the Commission's public record (eLibrary) for this proceeding, or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule will serve to notify federal and state agencies of the timing for the completion of all necessary reviews, and the subsequent need to complete all federal authorizations within 90 days of the date of issuance of the Commission staff's FEIS or EA.

There are two ways to become involved in the Commission's review of this project. First, any person wishing to obtain legal status by becoming a party to the proceedings for this project should, on or before the comment date stated below, file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 5 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Motions to intervene, protests and comments may be filed electronically via the Internet in lieu of paper; see, 18 CFR 385.2001(a)(1)(iii) and the instructions on the Commission's Web site under the “e-Filing” link. The Commission strongly encourages electronic filings.

Comment Date: December 15, 2015

Dated: November 24, 2015.
Nathaniel J. Davis, Sr.,
Deputy Secretary.

[FR Doc. 2015-30399 Filed 11-30-15; 8:45 am]

BILLING CODE 6717-01-P